DEPARTMENT OF ENERGY

Federal Energy Regulatory Commission

[Docket No. CP03-39-000]

Kinder Morgan Interstate Gas Transmission, LLC; Notice of Intent To Prepare an Environmental Assessment for the Proposed Cheyenne Market Center Project and Request for Comments on Environmental Issues

March 26, 2003.

The staff of the Federal Energy Regulatory Commission (FERC or Commission) will prepare an environmental assessment (EA) that will discuss the environmental impacts of the Cheyenne Market Center Project involving construction and operation of facilities by Kinder Morgan Interstate Gas Transmission, LLC (Kinder Morgan) in Cheyenne and Kimball Counties, Nebraska and Weld County, Colorado.¹ These facilities consist of four new compressor units, ten new injection/withdrawal wells, two new storage field pipelines, construction of a new compressor station, and certain auxiliary or appurtenant facilities. The EA will be used by the Commission in its decision-making process to determine whether the project is in the public convenience and necessity.

¹ Kinder Morgan's application was filed with the Commission under Section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Kinder Morgan provided to landowners. This fact sheet addresses a number of typically asked questions, including the use of eminent domain and how to participate in the Commission's proceedings. It is available for viewing on the FERC Internet Web site (http://www.ferc.gov).

Summary of the Proposed Project

Kinder Morgan is proposing to construct and operate certain storage and transportation facilities necessary to develop its proposed Cheyenne Market Center located in the vicinity of the Cheyenne Hub (Rockport) in Weld County, Colorado and the Huntsman Storage Facility located in Cheyenne County, Nebraska. The proposed project would create incremental storage capacity for up to 6,000,000 dekatherms (Dth), with an associated injection capability of about 38,400 Dth per day (Dthd) and an associated withdrawal deliverability of about 62,400 Dthd. The proposed project would provide customers with additional flexibility to store gas and utilize receipt and delivery points on short notice.

In order to create the capacity to perform the Cheyenne Market Center service, Kinder Morgan proposes to construct and operate the following facilities:

Compressor Facilities

• Rockport (Cheyenne Hub) Compressor Station—install two new addition 1,680-horsepower (hp) compressor units within the existing Rockport Compressor Station located in Weld County, Colorado.

• Kimball Junction Compressor Station—install two 1,151-hp compressor units at the existing Kimball Junction Interconnect located in Kimball County, Nebraska.

• Huntsman Compressor Station—install two new 3,550-hp compressor units adjacent to the existing Huntsman Compressor Station, and a central injection meter and a central withdrawal meter within the confines of the existing Huntsman Compressor Station located in Cheyenne County, Nebraska.

Injection/Withdrawal Wells

• Drill ten new injection/withdrawal wells at the existing Huntsman Storage Field located in Cheyenne County, Nebraska. The proposed well field design configuration is to drill these wells directionally (diverging directionally from a vertical well bore) from two new multiple wellhead surface location sites. Six wells would be drilled at Pad #1, located west and adjacent to the existing Huntsman Storage Field Well #9. Four wells would be drilled at Pad #2 in the northeast corner of the Huntsman Station.

Storage Field Lines

• Install about 2,000 feet of 12-inch-diameter pipeline loop ² originating at the proposed multiple wellhead Pad #1 site and terminating at the existing Huntsman Compressor Station inlet header facilities. This new 12-inch-diameter pipeline would loop the existing 12-inch-diameter pipeline from Huntsman Storage Field Well #9 to the compressor station.

² A loop is a segment of pipeline that is installed adjacent to an existing pipeline and connected to it on both ends. The loop allows more gas to be moved through the pipeline system.

• Install about 1,800 feet of 8-inch-diameter pipeline loop originating at the proposed multiple wellhead Pad #2 site and terminating at the existing Huntsman Compressor Station inlet header facilities. This new 8-inch-diameter pipeline would start at Pad #2, tie into the existing 8-inch-diameter discharge pipeline at Huntsman Storage Field Well #23 and loop the existing 8-inch-diameter pipeline back to the compressor station.

Auxiliary Facilities

• Install computer-based supervisory type process control systems, a check meter and bi-directional flow control assembly, control valves, pigging and gas cleaning facilities, and an office building with septic system and water well.

The general location of Kinder Morgan's proposed facilities is shown on the map attached as appendix 1.

Land Requirements for Construction

Construction of Kinder Morgan's proposed facilities would require about 52.6 acres of land, including construction right-of-way for the storage field pipeline loops, and work areas needed at the compressor stations, the injection/withdrawal wells sites, and for pipe storage. The construction disturbance width for each storage field pipeline would be 75 feet and there would be no change to the unspecified use area for the operation of either of the looped storage field lines. Kinder Morgan indicates that about 11.9 acres of operational area would be maintained. Construction access would be via existing access roads.

The EA Process

The National Environmental Policy Act (NEPA) requires the Commission to take into account the environmental impacts that could result from an action whenever it considers the issuance of a Certificate of Public Convenience and Necessity. NEPA also requires us ³ to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and Soils

• Water Resources and Wetlands

• Vegetation and Wildlife

• Threatened and Endangered Species

• Socioeconomics

• Cultural Resources

• Land Use

• Reliability and Safety

• Air Quality and Noise

We will evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Kinder Morgan. This preliminary list of issues may be changed based on your comments and our analysis.

• Threatened and Endangered Species

—Potential impact on six Federally-listed bird species.

—Potential impact on two Federally-listed animal species.

—Potential impact on two Federally-listed plant species.

• Air and Noise

—Impacts to air quality from the proposed project.

—Impacts on noise levels from the proposed compressor units at nearest noise sensitive areas.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: Magalie R. Salas, Secretary Federal Energy Regulatory Commission 888 First St., NE., Room 1A Washington, DC 20426;

• Label one copy of the comments for the attention of Gas 1, PJ-11.1;

• Reference Docket No. CP03-39-000; and

• Mail your comments so that they will be received in Washington, DC on or before April 27, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet Web site also provides access to the texts of formal documents issued by the Commission, such as orders, notices, and rulemakings.

Magalie R. Salas,
Secretary.

[FR Doc. 03-7864 Filed 4-1-03; 8:45 am]

BILLING CODE 6717-01-P